Proclamation 8563 of September 16, 2010

National POW/MIA Recognition Day, 2010

By the President of the United States of America

A Proclamation

“Until every story ends” is a solemn promise to those who wear the uniform of the United States that they will never be left behind or forgotten. On National POW/MIA Recognition Day, we pay tribute to the American men and women who never returned home from combat, to those who faced unthinkable suffering as prisoners of war in distant lands, and to all servicemembers who have defended American lives and liberties with unwavering devotion. As a grateful Nation, we can never repay the profound debt to our heroes, and we will not rest until we have accounted for the missing members of our Armed Forces.

We demonstrate our deep gratitude and admiration for our brave patriots not in words alone, but in our actions to bring them home. Each year, specialists in our Department of Defense scour foreign battlefields and burial sites, interview witnesses, and search national and international archives for information about those missing from the Vietnam War, Korean War, Cold War, World War II, and other conflicts. Their work will not be complete, nor our commitment fulfilled, until the families of those taken or missing in action can rest knowing the fate of their loved ones.

On September 17, 2010, the stark black and white flag honoring America’s prisoners of war and those missing in action will be flown over the White House; the United States Capitol; the Departments of State, Defense, and Veterans Affairs; the Selective Service System Headquarters; the World War II Memorial; the Korean War Veterans Memorial; the Vietnam Veterans Memorial; United States post offices; national cemeteries; and other locations across our country. It is a powerful reminder that our Nation will never cease in our task to recover, remember, and honor the courageous men and women who have served and sacrificed so much for each of us.

NOW, THEREFORE, I, BARACK OBAMA, President of the United States of America, by the authority vested in me by the Constitution and the laws of the United States, do hereby proclaim September 17, 2010, as National POW/MIA Recognition Day. I urge all Americans to observe this day of honor and remembrance with appropriate ceremonies and activities.

IN WITNESS WHEREOF, I have hereunto set my hand this sixteenth day of September, in the year of our Lord two thousand ten, and of the Independence of the United States of America the two hundred and thirty-fifth.

[FR Doc. 2010-23900

Filed 9-21-10; 11:15 am]

Billing code 3195-W0-P